DEPARTMENT OF HEALTH AND HUMAN SERVICES

Office for Civil Rights; The Patient Safety and Quality Improvement Act of 2005; Delegation of Authority

Correction

In notice document 06-4578 beginning on page 28701 in the issue of Wednesday, May 17, 2006 make the following correction:

On page 28702, in the first column, in the sixth line from the end of the document, “Dated: April 13, 2006” should read “Dated: April 3, 2006”.

[FR Doc. C6-4578 Filed 5-22-06; 8:45 am]

BILLING CODE 1505-01-D

DEPARTMENT OF THE INTERIOR

Minerals Management Service

30 CFR Part 250

RIN 1010-AC96

Oil and Gas and Sulphur Operations in the Outer Continental Shelf (OCS)—Minimum Blowout Prevention (BOP) System Requirements for Well-Workover Operations Performed Using Coiled Tubing With the Production Tree in Place

Correction

In rule document 06-2101 beginning on page 11310 in the issue of Tuesday, March 7, 2006, make the following correction:

§250.615 [Corrected]

On page 11313, in §250.615(e)(1), in the table, under the third column, between the current fifth and sixth entries, insert the following entry “Hydraulically-operated pipe rams.”.

[FR Doc. C6-2101 Filed 5-22-06; 8:45 am]

BILLING CODE 1505-01-D